DEPARTMENT OF TRANSPORTATION

Federal Aviation Administration

14 CFR Part 71

[Airspace Docket No. 01-ASO-12]

Establishment of Class D Airspace; Titusville, NASA Shuttle Landing Facility, FL

AGENCY: Federal Aviation Administration (FAA), DOT.

ACTION: Final rule.

SUMMARY: This action establishes Class D airspace at Titusville, NASA Shuttle Landing Facility, FL. A federal contract tower with a weather reporting system is in operation at the National Aeronautics and Space Administration (NASA) Shuttle Landing Facility. Therefore, the airport meets the criteria for establishment of Class D airspace. Class D surface area airspace is required when the control tower is open to contain existing Standard Instrument Approach Procedures (SIAPs) and other Instrument Flight Rules (IFR) operations at the airport. This action establishes Class D airspace extending upward from the surface to and including 1,900 feet MSL within a 5.7-mile radius of the NASA Shuttle Landing Facility.

EFFECTIVE DATE: 0901 UTC, April 18, 2002.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

On December 3, 2001, the FAA proposed to amend part 71 of the Federal Aviation Regulations (14 CFR Part 71) by establishing Class D airspace at Titusville, NASA Shuttle Landing Facility, FL, (66 FR 60162) to provide adequate controlled airspace to contain IFR operations at the NASA Shuttle Landing Facility. Class D airspace designations for airspace areas extending upward from the surface of the earth are published in FAA Order 7400.9J, dated August 31, 2001, and effective September 16, 2001, which is incorporated by reference in 14 CFR 71.1. The Class D designation listed in this document will be published subsequently in the Order.

Interested parties were invited to participate in this rulemaking proceeding by submitting written comments on the proposal to the FAA. No comments objecting to the proposal were received.

The Rule

The amendment to Part 71 of the Federal Aviation Regulations (14 CFR part 71) establishes Class D airspace at Titusville, NASA Shuttle Landing Facility, FL.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by Reference, Navigation (air)

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9J, Airspace Designations and Reporting Points, dated August 31, 2001, and effective September 16, 2001, is amended as follows:

Paragraph 5000 Class D Airspace

* * * * *

ASO FL D Titusville, NASA Shuttle Landing Facility, FL [New]

NASA Shuttle Landing Facility, FL

(Lat. 28° 36′ 54′′ N. long. 80° 41′ 40′′ W)

Space Coast Regional Airport

(Lat. 28° 30′ 53′′ N. long. 80° 47′ 57′′ W)

That airspace extending upward from the suface to and including 1,900 feet MSL within a 5.7-mile radius of NASA Shuttle Landing Facility, excluding that portion contained within the Titusville, FL Class D airspace area; excluding that portion along the western boundary of Restricted Area R-2934, west of a line connecting the 2 points of intersection; and excluding the remaining portion within Restricted Areas R-2932 and R-2934 when they are active. This Class D airspace area is effective during the specific days and times established in advance by a Notice to Airmen. The effective days and times will thereafter be continuously published in the Airport/Facility Directory.

* * * * *

Issued in College Park, Georgia, on January 14, 2002.
Wade T. Carpenter,
Acting Manager, Air Traffic Division, Southern Region.

[FR Doc. 02-1510 Filed 1-18-02; 8:45 am]

BILLING CODE 4910-13-M